DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On August 17, 2018, OFAC determined that the property and interests in property subject to U.S. jurisdiction of the following persons are blocked under the relevant sanctions authority listed below.

Individuals/Entities

1. KHIN HLAING, Burma; DOB 02 May 1968; Gender Male (individual) [GLOMAG].

Designated pursuant to section 1(a)(ii)(C)(1) of Executive Order 13818 of December 20, 2017, “Blocking the Property of Persons Involved in Serious Human Rights Abuse or Corruption” (E.O. 13818) for being or having been a leader or official of Burma's 99th Light Infantry Division, an entity that has engaged in, or whose members have engaged in, serious human rights abuse relating to the leader's or official's tenure.

2. AUNG KYAW ZAW (a.k.a. AUNG KYAW ZAWW), Burma; DOB 20 Aug 1961; Gender Male; Passport DM-000826 issued 22 Nov 2011 (individual) [GLOMAG].

Designated pursuant to section 1(a)(ii)(C)(1) of E.O. 13818 for being or having been a leader or official of Burma's Bureau of Special Operations 3, an entity that has engaged in, or whose members have engaged in, serious human rights abuse relating to the leader's or official's tenure.

3. THURA SAN LWIN, Burma; DOB 17 Mar 1959; POB Yangon, Burma; Gender Male (individual) [GLOMAG].

Designated pursuant to section 1(a)(ii)(C)(1) of E.O. 13818 for being or having been a leader or official of Burma's Border Guard Police, an entity that has engaged in, or whose members have engaged in, serious human rights abuse relating to the leader's or official's tenure.

Also designated pursuant to section 1(a)(ii)(A) of E.O. 13818 for being responsible for or complicit in, or having directly or indirectly engaged in, serious human rights abuse.

4. KHIN MAUNG SOE, Burma; DOB 1972; Gender Male (individual) [GLOMAG].

Designated pursuant to section 1(a)(ii)(C)(1) of E.O. 13818 for being or having been a leader or official of Burma's Military Operations Command 15, an entity that has engaged in, or whose members have engaged in, serious human rights abuse relating to the leader's or official's tenure.

5. 33RD LIGHT INFANTRY DIVISION OF THE BURMESE ARMY, Sagaing, Burma [GLOMAG].

Designated pursuant to section 1(a)(ii)(A) of E.O. 13818 for being responsible for or complicit in, or having directly or indirectly engaged in, serious human rights abuse.

6. 99TH LIGHT INFANTRY DIVISION OF THE BURMESE ARMY, Meiktila, Burma [GLOMAG].

Designated pursuant to section 1(a)(ii)(A) of E.O. 13818 for being responsible for or complicit in, or having directly or indirectly engaged in, serious human rights abuse.

Dated: August 17, 2018.
Andrea Gacki,
Acting Director, Office of Foreign Assets Control.

[FR Doc. 2018-19469 Filed 9-7-18; 8:45 am]

BILLING CODE 4810-AL-P